DEPARTMENT OF DEFENSE

Office of the Secretary

[Transmittal No. 20-25]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 20-25 with attached Policy Justification and Sensitivity of Technology.

Dated: December 7, 2020.
Kayyonne T. Marston,
Alternate OSD Federal Register Liaison Officer, Department of Defense.

BILLING CODE 5001-06-P

BILLING CODE 5001-06-C

Transmittal No. 20-25

Notice of Proposed Issuance of Letter of Offer Pursuant to Section 36(b)(1) of the Arms Export Control Act, as amended

(i) Prospective Purchaser: Government of Guyana

(ii) Total Estimated Value:

Major Defense Equipment * | $ 0 million
Other | $256 million
Total | $256 million

(iii) Description and Quantity or Quantities of Articles or Services under Consideration for Purchase:

Major Defense Equipment (MDE):

None

Non-MDE:

Two (2) Bell 412EPi Light Utility Helicopters with customer-unique modifications; two (2) Bell 429 Light Utility Helicopters with customer-unique modifications; two (2) WESCAM MX-10 cameras; mission equipment; contractor-provided pilot and maintainer training; particular ground support equipment; spares; publications; integrated product support; technical assistance; transportation; Repair and Return; and other related elements of logistics and program support.

(iv) Military Department: Army (GU-B-UAH)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: October 30, 2020

* As defined in Section 47(6) of the Arms Export Control Act.

POLICY JUSTIFICATION

Guyana—Bell 412EPi and 429 Helicopters

The Government of Guyana has requested to buy two (2) Bell 412EPi Light Utility Helicopters with customer-unique modifications; two (2) Bell 429 Light Utility Helicopters with customer-unique modifications; two (2) WESCAM MX-10 cameras; mission equipment; contractor-provided pilot and maintainer training; particular ground support equipment; spares; publications; integrated product support; technical assistance; transportation; Repair and Return; and other related elements of logistics and program support. The total estimated program cost is $256 million.

This proposed sale will support the foreign policy and national security of the United States by helping to improve security of Guyana, which is expected to grow to be an important force for political stability and economic progress in South America.

The proposed sale of the Bell 412EPi and 429 helicopters will improve Guyana's capability to meet current and future threats. Guyana will use the enhanced capability to strengthen its homeland defense; conduct maritime surveillance, patrol, and interdiction; counter narcotic trafficking and transnational criminal organizations; deter regional threats; and support coalition partners overseas. Guyana will have no difficulty absorbing this equipment into its armed forces.

The proposed sale of this equipment and support will not alter the basic military balance in the region.

The principal contractor will be Bell Helicopter Textron Incorporated (BHTI), Piney Flats, TN. The purchaser typically requests offsets. There are no known offset agreements proposed in connection with this potential sale.

Implementation of this sale will not require the assignment of any additional U.S. Government or contractor representatives to Guyana.

There will be no adverse impact on U.S. defense readiness as a result of this proposed sale.

Transmittal No. 20-25

Notice of Proposed Issuance of Letter of Offer Pursuant to Section 36(b)(1) of the Arms Export Control Act

Annex

Item No. vii

(vii) Sensitivity of Technology:

1. The Bell 412EPi is a twin-engine, 1 + 14 passenger capacity, newly manufactured utility helicopter with IFR Medium Twin (3-Axis) with Bell BASIX-PRO Integrated Avionics System and Pratt & Whitney PT6T-9 Engine TwinPac with Electronic Engine Controls (EEC/FADEC). The Bell BASIX-PRO Integrated Avionics Systems includes Multi-Functional Electronic Flight Instrument System (EFIS) 6″′ X 8′ LED PFD/MFD Displays (EICAS, PIS, SYS Diag., HSI, VOR, GPS, ADF, Speed, Alt, TAS, Video FDM) - Pilot and Copilot (4 per ship), IFR FAA Kit, AFCS/Dual Digital Flight Director Nav Coupler (3 - Axis) with Stability Augmentation System (SAS), Attitude Retention (ATT), NAVl/COM1/VHF/GPSl/VOR/ILS/LOC/GS/WAAS Garmin GTN-750, 16 Watt with Regional Map Database, Radar Altimeter #1 (KRA-405B), Distance Measuring Equipment, DME (KDM-706A), Automatic Direction Finder (ADF) - (KDF-806), Air Data Computer (ADC), Altitude & Heading Reference System (LCR-100). The Bell 412EPi is in the Search and Rescue (SAR) with Automatic Flight Control System (AFCS) configuration. The SAR system is composed of a navigation computer with SAR modes, and AFCS that provides coupled SAR functions, hoist operator control, a hover speed reference system, and two radio altimeters. This aircraft (before modification) is generally offered to the public with no special restrictions.

2. The Bell 429 is a light twin, newly manufactured helicopter. The Bell 429 features two/three multi-function displays, dual digital 3-axis autopilot and an integrated electronic data recorder provides enhanced situational awareness and post flight analysis. The Bell 429 standard configuration consists of Dual Pilot Control Provisions, Radar Altimeter (Honeywell KRA 4058, GPS GTN 750 HT A WS upgrade), Traffic Avoidance System - TAS605 with Mutable Audio (Avidyne), NAV/COM/GPS - GTN-750 ChartView Upgrade, Weather Radar (Honeywell ART/RDR-2000) Original Radome (Displayed on GTN-750). This aircraft (before modification) is generally offered to the public with no special restrictions.

3. The U.S. Government will provide modified aircraft that are globally self-deployable and appropriately equipped to be able to meet the communications, navigation, surveillance and Air Traffic Management (CNS/ATM) requirements for unrestricted transit through domestic and International Civil Aviation Organization (ICAO) civilian-controlled and military-controlled airspace.

4. The WESCAM MX-10 is a small Multi-Sensor, Multi-Spectral Imaging System with Inertial Measurement Unit (IMU) and Embedded with Global Positioning System (GPS) Standard Positioning Service (SPS). The WESCAM MX-10 camera system contains a HG-1900BA50 IMU manufactured by Honeywell in the United States. WESCAM MX-10 is embedded with GPS SPS. SPS is a three-dimensional position and time determination capability provided to a user equipped with a minimum capability GPS SPS receiver in accordance with GPS national policy. The HG-1900BA50 includes Micro-Electro Mechanical Systems (MEMS) gyros and quartz resonating beam accelerometers and is an MTCR Category II controlled item, specifically 9.A.6..

5. If a technologically advanced adversary were to obtain knowledge of the hardware and software elements, the information could be used to develop countermeasures or equivalent systems which might reduce system effectiveness or be used in the development of a system with similar or advanced capabilities.

6. A determination has been made that Guyana can provide substantially the same degree of protection for the technology being released as the U.S. Government. This potential sale is necessary in furtherance of the U.S. foreign policy and national security objectives as outlined in the Policy Justification.

7. All defense articles and services listed in this transmittal are authorized for release and export to the Government of Guyana.

[FR Doc. 2020-27187 Filed 12-9-20; 8:45 am]

BILLING CODE 5001-06-P